Proclamation 9519 of October 7, 2016

Leif Erikson Day, 2016

By the President of the United States of America

A Proclamation

More than 1,000 years ago, an intrepid Scandinavian explorer, Leif Erikson, embarked on a voyage that landed him on the North American coast. A son of Iceland and grandson of Norway, Erikson and his crew are believed to be the first Europeans to reach the shores of our continent, founding the Vinland settlement in modern-day Canada. Today, we recall Leif Erikson's historic journey as we seek to carry forward the bold spirit of exploration that has inspired Nordic Americans for generations.

Eight centuries after Leif Erikson's trip, six families of Norwegians boarded a ship called Restauration bound for New York City. Following in Erikson's footsteps, these individuals sought the promise of freedom and opportunity America offered and became the first group of organized American immigrants from Norway. Millions of Americans proudly trace their ancestry to Nordic countries, raised by parents and grandparents who crossed oceans to carve out new lives for their families and help steer the course of our country. The United States and our Nordic partners are united by ties of family and friendship, history and heritage. Earlier this year, I was proud to welcome Nordic leaders to the White House. This visit illustrated many of the values and interests we share—including increasing opportunity for all and recognizing the inherent dignity of every human being.

Nordic countries remain some of our most reliable and effective partners, steadfastly helping us meet the shared challenges of our time. We remain grateful for their friendship, and for the ways the Nordic people have influenced our country and enhanced the American melting pot. On Leif Erikson Day, as we express our appreciation for the myriad contributions of Nordic Americans, let us remember the discovery that set this profound history in motion.

To honor Leif Erikson and celebrate our Nordic-American heritage, the Congress, by joint resolution (Public Law 88-566) approved on September 2, 1964, has authorized the President of the United States to proclaim October 9 of each year as “Leif Erikson Day.”

NOW, THEREFORE, I, BARACK OBAMA, President of the United States of America, do hereby proclaim October 9, 2016, as Leif Erikson Day. I call upon all Americans to observe this day with appropriate ceremonies, activities, and programs to honor our rich Nordic-American heritage.

IN WITNESS WHEREOF, I have hereunto set my hand this seventh day of October, in the year of our Lord two thousand sixteen, and of the Independence of the United States of America the two hundred and forty-first.

[FR Doc. 2016-24995

Filed 10-12-16; 11:15 am]

Billing code 3295-F7-P